DEPARTMENT OF DEFENSE

Office of the Secretary

Defense Science Board

AGENCY: Department of Defense.

ACTION: Notice of advisory committee meeting.

SUMMARY: The Defense Science Board Task Force on Quarantining Guidance for the Severe Acute Respiratory Syndrome (SARS) Epidemic will meet in open session January 14, 2004, from 0930-1200 and from 1300-1500. The Task Force will meet at SAIC, 4001 N. Fairfax Drive, Suite 500, Arlington, VA. The Task Force will review the impact quarantining may have on DoD planning and operations by preventing the flow of personnel and material to areas of concern, eroding relationships with host countries, and impacting our forces through anxieties about family members.

The mission of the Defense Science Board is to advise the Secretary of Defense and the Under Secretary of Defense for Acquisition, Technology & Logistics on scientific and technical matters as they affect the perceived needs of the Department of Defense. At this meeting, the Defense Science Board Task Force will review and evaluate the Department's ability to provide information to integrate public health needs, on behalf of national security. Specifically, the Task Force will review: Existing doctrine and processes by which quarantine policy is generated; required cooperation with non-DoD agencies and non-US Government entities, including other countries; the capacity of local commanders to rapidly survey disease status, and establish need, ways and means for quarantine in relation to their assigned mission; methods, technologies and doctrine to allow safe transport of personnel through quarantined areas, and restriction of movement where needed; sample scenarios; coordination and allocation of DoD and non DoD resources to combat SARS; identification and tracking of individuals potentially exposed to SARS; and features of the SARS guidance which may be applicable to future infectious disease outbreaks.

FOR FURTHER INFORMATION CONTACT: CDR David Waugh, USN, Defense Science Board, 3140 Defense Pentagon, Room 3D865, Washington, DC 20301-3140, via e-mail at david.waugh@osd.mil, or via phone at (703) 695-4158.

SUPPLEMENTARY INFORMATION: Members of the public who wish to attend the meeting must contact CDR Waugh no later than January 5, 2004, for further information about admission as seating is limited. Additionally, those who wish to make oral comments or deliver written comments should also request to be scheduled, and submit a written text of the comments by January 5, 2004, to allow time for distribution to Task Force members prior to the meeting. Individual oral comments will be limited to five minutes, with the total oral comment period not exceeding 30 minutes.

Dated: November 21, 2003.
Patricia L. Toppings,
Alternate OSD Federal Register Liaison Officer, Department of Defense.

[FR Doc. 03-30034 Filed 12-2-03; 8:45 am]

BILLING CODE 5001-06-M